ENVIRONMENTAL PROTECTION AGENCY

[FRL-7629-5; Docket ID No. RCRA-2004-0001]

Office of Solid Waste and Emergency Response; Announcement of Listening Sessions

AGENCY: Environmental Protection Agency (EPA).

ACTION: Notice.

SUMMARY: EPA will hold listening sessions on March 23, 2004, in State College, Pennsylvania; April 13, 2004, in Dallas, Texas; and April 22, 2004, in Vincennes, Indiana. These three listening sessions are opportunities for interested parties to provide EPA with information on the practices of placing coal combustion byproducts in coal mines and at surface impoundments and landfills, including non-coal mine sites. EPA is interested in obtaining information on benefits and problems associated with the practices. Placement of coal combustion byproducts at coal mines is currently regulated under any of three scenarios: (1) Regulated by federal or State agencies operating under authority of the federal Surface Mining Reclamation and Control Act (SMCRA) administered by the U.S. Department of the Interior; (2) regulated by State agencies operating under State mining or solid waste laws; or (3) a combination of these. EPA is in the process of considering whether Resource Conservation and Recovery Act (RCRA) subtitle D or SMCRA authorities or some combination of both are most appropriate to regulate placement at coal mines. For placement of coal combustion byproducts at surface impoundments and landfills, including non-coal mine sites, EPA is in the process of developing regulations under subtitle D of RCRA. At these listening sessions, officials from the U.S. Department of the Interior and State mining and solid waste agencies will be present, along with EPA officials.

DATES: The listening session dates are:

1. March 23, 2004, in State College, Pennsylvania.

2. April 13, 2004, in Dallas, Texas.

3. April 22, 2004, in Vincennes, Indiana.

ADDRESSES: The listening session locations are:

1. State College, Pennsylvania—the Nittany Lion Inn, 200 West Park Ave., State College, PA.

2. Dallas, Texas—Fairmont Hotel, 1717 N. Akard St., Dallas, TX.

3. Vincennes, Indiana—Quality Inn Vincennes, 600 Old Wheatland Rd., Vincennes, IN.

FOR FURTHER INFORMATION CONTACT: Bonnie Robinson, Office of Solid Waste, Mail Code 5306W, Environmental Protection Agency, 1200 Pennsylvania Avenue, NW., Washington, DC 20460; telephone number (703) 308-8429; fax number (703) 308-8686; e-mail address: Robinson.Bonnie@epa.gov.

SUPPLEMENTARY INFORMATION:

I. General Information

A. Does This Action Apply to Me?

This action is directed to the public in general; however, persons may be interested who work or live at or near facilities at which coal combustion byproducts are generated or placed, or persons who are concerned about implementation of the Federal Resource Conservation and Recovery Act (RCRA) or the Federal Surface Mining Control and Reclamation Act (SMCRA).

B. How Can I Obtain Related Information?

1. Docket. EPA has established an official public docket for this action under Docket ID No. RCRA-2004-0001. The official public docket consists of the documents specifically referenced in this action, any public comments received, and other information related to this action. Although a part of the official docket, the public docket does not include Confidential Business Information (CBI) or other information whose disclosure is restricted by statute. The official public docket is the collection of materials that is available for public viewing at the OSWER Docket in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OSWER Docket is (202) 566-0270.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above. Once in the system, select “search,” then key in the appropriate docket ID number.

You may access EPA information electronically at the EPA Web site www.epa.gov/epaoswer/other/fossil/index.htm.

II. Background

For placement of coal combustion byproducts at coal mines, EPA is in the process of considering whether RCRA subtitle D or SMCRA authorities or some combination of both are most appropriate to ensure protection of human health and the environment. For placement of coal combustion byproducts at surface impoundments and landfills, including non-coal mine sites, EPA is in the process of developing regulations under RCRA subtitle D. These EPA actions and the background for them were initially described in EPA's Notice of Regulatory Determination on Wastes From the Combustion of Fossil Fuels (65 FR 32214-32237, May 22, 2000). This Regulatory Determination, an associated Report to Congress, and other related documents may be accessed at the Web site identified above. In this process EPA has contacted State and Federal regulatory agencies, the coal mining and coal combustion industries, and the public to learn of issues associated with the several practices. These three listening sessions are further opportunity for the public to provide EPA with information on these practices involving coal combustion byproducts.

To register to speak at one of these three listening sessions, you should contact the person listed above under FOR FURTHER INFORMATION CONTACT. To speak at one of the listening sessions, you should register no later than seven calendar days prior to the listening session. At each listening session, speakers' speaking time will be limited according to the number of persons registering to speak. If you are unable to register to speak, EPA will attempt to accommodate you after the registered speakers have spoken. There is no limitation on the amount of written material which can be provided to EPA at the listening sessions. EPA plans for each listening session to begin at 6:30 p.m. and end at 9 p.m. If the number of registered speakers indicates the need to extend to a later hour, EPA will do so.

Authority: 42 U.S.C. 6901-6991i.

Dated: February 23, 2004.
Robert Springer,
Director, Office of Solid Waste.

[FR Doc. 04-4626 Filed 3-1-04; 8:45 am]

BILLING CODE 6560-50-P